DEPARTMENT OF COMMERCE

National Oceanic and Atmospheric Administration

Meeting of the Advisory Committee on Commercial Remote Sensing

ACTION: Notice of meeting.

SUMMARY: The Advisory Committee on Commercial Remote Sensing (“ACCRES”) will meet for 2 half-day meetings on October 27 and October 28, 2020.

DATES: The meeting is scheduled as follows: October 27-October 28, 2020 from 10 a.m.-2 p.m. Eastern Daylight Time (EDT) each day.

ADDRESSES: The meeting will be held virtually via Cisco WebEx.

FOR FURTHER INFORMATION CONTACT: Tahara Dawkins, NOAA/NESDIS/CRSRA, 1335 East West Highway, G-101, Silver Spring, Maryland 20910; 301-427-2560 or CRSRA@noaa.gov.

SUPPLEMENTARY INFORMATION: As required by Section 10(a)(2) of the Federal Advisory Committee Act, 5 U.S.C. App. (FACA) and its implementing regulations, see 41 CFR 102-3.150, notice is hereby given of the meeting of ACCRES. ACCRES was established by the Secretary of Commerce (Secretary) on May 21, 2002, to advise the Secretary through the Under Secretary of Commerce for Oceans and Atmosphere on matters relating to the U.S. commercial remote sensing space industry and on the National Oceanic and Atmospheric Administration's activities to carry out the responsibilities of the Department of Commerce set forth in the National and Commercial Space Programs Act of 2010 (51 U.S.C. 60101 et seq.).

Purpose of the Meeting and Matters To Be Considered

The meeting will be open to the public pursuant to Section 10(a)(1) of the FACA. During the meeting, the Committee will hear a report out from the four task groups formed during the 27th meeting of ACCRES and discuss both the U.S. and Global perspectives of the current state of the satellite industry.

Additional Information and Public Comments

The meeting will be held over two half-days and will be conducted via Cisco WebEx. Please RSVP for the meeting through the link: https://forms.gle/HaUfhkRmZQFGs5pv7 or by directly emailing mailto:CRSRA@noaa.gov. The agenda, speakers and times are subject to change. For updates, please check online at https://www.nesdis.noaa.gov/CRSRA/accresMeetings.html.

Public comments are encouraged. Individuals or groups who would like to submit advance written comments, please email them to Tahara.Dawkins@noaa.gov, and CRSRA@noaa.gov.

Stephen M. Volz,
Assistant Administrator for Satellite and Information Services.

[FR Doc. 2020-21679 Filed 9-30-20; 8:45 am]

BILLING CODE 3510-HR-P